DEPARTMENT OF TRANSPORTATION

Federal Aviation Administration

Noise Compatibility Program for Duluth International Airport, St. Louis County, Minnesota

AGENCY: Federal Aviation Administration, DOT.

ACTION: Approval of a Duluth International Airport (DLH) noise compatibility program.

SUMMARY: The Federal Aviation Administration (FAA) announces its findings for the noise compatibility program submitted by DLH, see SUPPLEMENTARY INFORMATION for details. On April 11, 2022 the FAA determined that the noise exposure maps submitted by DLH were in compliance with applicable requirements. On October 6, 2022, the FAA approved the DLH noise compatibility program. All of the recommendations of the program were approved. No program elements relating to new or revised flight procedures for noise abatement were proposed by the DLH.

DATES: The effective date of the FAA's approval of the DLH noise compatibility program is October 6. 2022.

FOR FURTHER INFORMATION CONTACT: Josh Fitzpatrick, Federal Aviation Administration, Environmental Protection Specialist, 6020 South 28th Avenue, Room 102, Minneapolis, MN 55450, (612) 253-4639.

SUPPLEMENTARY INFORMATION: This notice announces FAA's approval of the noise compatibility program for DLH, effective on October 6, 2022. Per United States Code section 47504 (49 U.S.C. 47504) and Title 14, Code of Federal Regulations (CFR), part 150, an airport sponsor who previously submitted a noise exposure map may submit to the FAA a noise compatibility program which sets forth the measures taken or proposed by the airport sponsor for the reduction of existing non-compatible land uses and prevention of additional non-compatible land uses within the area covered by the noise exposure maps. As required by 49 U.S.C. 47504, such programs must be developed in consultation with interested and affected parties including local communities, government agencies, airport users, and the FAA. The FAA does not substitute its judgment for that of the airport sponsor with respect to which measures should be recommended for action. The FAA approval or disapproval of an airports recommendations in their noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of FAA's approval of noise compatibility programs are delineated in 14 CFR 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the noise compatibility program nor a determination that all measures covered by the noise compatibility program are eligible for grant-in-aid funding from the FAA. Where federal funding is sought, requests must be submitted to the FAA Airports District Office at 6020 South 28th Avenue, Room 102, Minneapolis, MN 55450.

DLH submitted to the FAA on December 13, 2021 the noise exposure maps, descriptions, and other documentation produced during the noise compatibility planning study conducted from October 2, 2019 and December 13, 2021. The DLH noise exposure maps were determined by FAA to be in compliance with applicable requirements on April 11, 2022. Notice of this determination was published in the Federal Register on April 15, 2022 “87 FR 22616”.

The DLH proposed noise compatibility program is comprised of actions designed for phased implementation by airport management and adjacent jurisdictions from December 13, 2021 to 2026. It was requested that the FAA evaluate and approve this material as a noise compatibility program as described in 49 U.S.C. 47504. The FAA began its review of the program on April 11, 2022 and was required by a provision of 49 U.S.C. 47504 to approve or disapprove the program within 180 days, other than the use of new or modified flight procedures for noise control. Failure to approve or disapprove such program within the 180-day period shall be deemed an approval of such program.

The submitted program contained 12 proposed measures to minimize impacts of aviation noise on and off the airport. The FAA completed its review and determined that the procedural and substantive requirements of the 49 U.S.C. 47504 and 14 CFR part 150 were satisfied. The overall program, therefore, was approved by the FAA effective October 6, 2022.

Outright approval was granted for all the specific program elements. Program elements include:

Measure M-A: Offer Residential Sound-insulation Treatment to Single- and Multi-Family Homes (47 units) within the Average Day-Night Sound Level (DNL) 65 decibels (dB) and above Noise Contours. Offer Residential Sound-insulation treatment to Single- Family Homes (17 units) within the Block Rounding Area outside the DNL 65 dB Noise Contour.

Measure M-B (1997 NCP Measure M-1): Offer Land Acquisition Program to Single-Family Homes (7 units) within the DNL 70 dB and above Noise Contour.

Measure M-C: Offer Land Acquisition to Birchwood Mobile Estates (102 Mobile Homes) within the Noise Mitigation Program Area (NMPA) #1 boundary and 1 additional mobile home property located to the northwest of the airport within the DNL 65 dB and above noise contour.

Measure M-D: Offer Avigation Easements to owner-occupied single-family homes within NMPA #1 if acquisition (within DNL 70 dB noise contour only) and sound-insulation is declined.

Measure M-E: Offer Avigation Easements to one (1) mobile home within NMPA #1, located along Lavaque Bypass Road, if acquisition is declined.

Measure M-F: Develop an Airport Land Use Management District (ALUMD).

Measure M-G: Adopt Updated Subdivision Regulations.

Measure M-H: Adopt Improved Building Codes.

Measure M-I: Develop a Voluntary Fair Disclosure Program.

Measure P-A: Continue Logging of Noise Complaints.

Measure P-B: Initiate Community Roundtable or Noise Abatement Committee.

Measure P-C: Perform Regular Updates to the noise exposure map and review of the noise compatibility program.

These determinations are set forth in detail in the Record of Approval signed by the FAA Airports Great Lakes Division Director on October 6, 2022. The Record of Approval, as well as other evaluation materials and the documents comprising the submittal, are available for review at the FAA office listed above and at the administrative offices of the Duluth Airports Authority (DAA). The Record of Approval also will be available on the internet on the FAAs website at http://www.faa.gov/airports/environmental/airport_noise/part_150/states/ and the DLH website at https://duluthairport.com/noise-study/#documents.

Issued in Chicago, IL, on October 6, 2022.
Susan Mowery-Schalk,
Director, Office of Airports, AGL-600, FAA Great Lakes Region.

[FR Doc. 2022-23464 Filed 10-27-22; 8:45 am]

BILLING CODE 4910-13-P